DEPARTMENT OF THE INTERIOR

Bureau of Indian Affairs

[145A2100DD.AADD001000. A0E501010.999900]

Renewal of Agency Information Collection for the Bureau of Indian Education Adult Education Program

AGENCY: Bureau of Indian Affairs, Interior.

ACTION: Notice of request for comments.

SUMMARY: In compliance with the Paperwork Reduction Act of 1995, the Bureau of Indian Education (BIE) is seeking comments on the renewal of Office of Management and Budget (OMB) approval for the collection of information for the Bureau of Indian Education Adult Education Program authorized by OMB Control Number 1076-0120. This information collection expires February 28, 2015.

DATES: Submit comments on or before February 9, 2015.

ADDRESSES: You may submit comments on the information collection to Ms. Juanita Mendoza, Program Analyst, Bureau of Indian Education, U.S. Department of the Interior, 1951 Constitution Avenue NW., MS 312, Washington, DC 20240; or email to: Juanita.Mendoza@bie.edu.

FOR FURTHER INFORMATION CONTACT: Ms. Juanita Mendoza, telephone: (202) 208-3559.

SUPPLEMENTARY INFORMATION:

I. Abstract

The Bureau of Indian Education (BIE) is seeking renewal of the approval for the information collection conducted under 25 CFR part 46 to manage program resources and for fiscal accountability and appropriate direct services documentation. Approval for this collection expires on February 28, 2015. This information includes an annual report form. No changes are being made to the approved burden hours and forms for this information collection.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0120.

Title: Bureau of Indian Education Adult Education Program Annual Report Form.

Brief Description of Collection: Submission of this information allows BIE to manage program resources, for fiscal accountability and appropriate direct services documentation, and to prioritize programs. The information helps manage the resources available to provide education opportunities for adult Indians and Alaska Natives to complete high school graduation requirements and gain new skills and knowledge for self-enhancement. Response is required to obtain a benefit.

Type of Review: Extension without change of currently approved collection.

Respondents: Individuals (Tribal Adult Education Program Administrators).

Number of Respondents: 70 per year, on average.

Total Number of Responses: 70 per year, on average.

Frequency of Response: Once per year.

Estimated Time per Response: 4 hours.

Estimated Total Annual Hour Burden: 280 hours.

Estimated Total Annual Non-Hour Dollar Cost: $200.

Dated: December 3, 2014.
Elizabeth K. Appel,
Director, Office of Regulatory Affairs and Collaborative Action—Indian Affairs.

[FR Doc. 2014-28787 Filed 12-8-14; 8:45 am]

BILLING CODE 4310-6W-P